DEPARTMENT OF HEALTH AND HUMAN SERVICES

Centers for Disease Control and Prevention

[Program Announcement 04284]

Strengthening and Expanding HIV/AIDS Surveillance, Prevention, Care and Support Services Targeting Vulnerable Populations in Ho Chi Minh City, Vietnam; Notice of Intent to Fund Single Eligibility Award

A. Purpose

The Centers for Disease Control and Prevention (CDC) announces the intent to fund fiscal year (FY) 2004 funds for a cooperative agreement program to strengthen and expand HIV/AIDS surveillance, prevention, care and support services targeting vulnerable populations in Ho Chi Minh City (HCMC), Vietnam. The Catalog of Federal Domestic Assistance number for this program is 93.941.

B. Eligible Applicant

Assistance will be provided only to the HCMC Provincial AIDS Committee (HCMC PAC).

The award specifically aims to use existing capacity through the HCMC PAC to strengthen and expand HIV/AIDS surveillance, prevention, care and support activities in high prevalence districts of HCMC. Currently, the HCMC PAC is the single entity designated by the HCMC People's Committee to conduct this specific set of activities supportive of the CDC GAP. In addition,

(1) The HCMC PAC is uniquely positioned, in terms of legal authority and credibility among Vietnamese health institutions, to implement HIV/AIDS surveillance, prevention, care and support activities in HCMC.

(2) the HCMC PAC already has established mechanisms to access HIV/AIDS, TB, STD and other public health information, enabling it to immediately become engaged in the activities listed in this announcement.

(3) the purpose of this announcement is to build upon the existing framework of health information and activities that the HCMC PAC itself has collected or initiated.

(4) the HCMC PAC is multi-sectoral organization, whose membership includes the HCMC People's Committee, Provincial Health Services, Preventive Medicine Center, Ministry of Labor, War Invalids and Social Affairs (MOLISA), Department of Labor, War Invalids and Social Affairs (DOLISA), the Police Department, the Youth Union, the Women's Union, and other governmental and non-governmental organizations and can effectively coordinate and implement HIV/AIDS surveillance, prevention, care and support activities throughout HCMC.

C. Funding

Approximately $350,000 is available in FY 2004 to fund this award. It is expected that the award will begin on or before September 1, 2004, and will be made for a 12-month budget period within a project period of up to 5 years. Funding estimates may change.

D. Where To Obtain Additional Information

For general comments or questions about this announcement, contact: Technical Information Management, CDC Procurement and Grants Office, 2920 Brandywine Road, Atlanta, GA 30341-4146. Telephone: 770-488-2700.

For technical questions about this program, contact: S. Patrick Chong, Deputy Director, Global AIDS Program [GAP], Vietnam, National Center for HIV, STD and TB Prevention, Centers for Disease Control and Prevention [CDC], US Embassy Hanoi, 7 Lang Ha, Hanoi, Vietnam. Telephone: +84 (4) 831-4580, ext. 215. E-mail: pchong@cdc.gov.

Dated: July 16, 2004.
William P. Nichols,
Acting Director, Procurement and Grants Office, Centers for Disease Control and Prevention.

[FR Doc. 04-16807 Filed 7-22-04; 8:45 am]

BILLING CODE 4163-18-P